Proclamation 7783 of May 7, 2004

Mother's Day, 2004

By the President of the United States of America

A Proclamation

President Theodore Roosevelt once said, “The mother is the one supreme asset of national life; she is more important by far than the successful statesman, or business man, or artist, or scientist.” Today, mothers continue to be an important part of our national character. On Mother's Day, we honor the women whose steadfast love and wisdom have made America a better place.

During the Civil War, Julia Ward Howe, author of “The Battle Hymn of the Republic,” proposed renaming July 4 as Mother's Day and a day dedicated to peace. Anna Reeves Jarvis also began working for a similar holiday and sponsored a Mother's Friendship Day in her hometown to reunite families divided by the war. It was not until 2 years after her mother's death that her daughter, Anna M. Jarvis, started the campaign for the observance of Mother's Day in the United States. By 1911, Mother's Day was observed in nearly every State of the Union, and in 1914, responding to a joint resolution of the Congress, President Woodrow Wilson officially designated Mother's Day a national observance.

Motherhood is a rewarding and often difficult job. A mother is a child's first teacher and affects a child's life like few others can. Effective mothers can inspire their sons and daughters to love themselves and others, work hard, make healthy choices, serve causes greater than self, and achieve their dreams. Mothers who protect, teach, and nurture their children with all their hearts strengthen their families and help build a better future for our country.

This Mother's Day, we express our heartfelt thanks to our mothers for their unconditional love and guidance. We take time to recognize the many mothers who are supporting their brave sons and daughters in the Armed Forces, and the many others who are themselves serving proudly in defense of America's freedom and security. The service and sacrifice of these women reflect the best of our Nation. They and their loved ones are in our thoughts and prayers.

The Congress, by a joint resolution approved May 8, 1914, as amended (38 Stat. 770), has designated the second Sunday in May each year as “Mother's Day” and has requested the President to call for its appropriate observance. In honor of all of our Nation's mothers, I am pleased to do so.

NOW, THEREFORE, I, GEORGE W. BUSH, President of the United States of America, do hereby proclaim May 9, 2004, as Mother's Day. I commend mothers for the important contributions they make to our society and encourage all Americans to express their love, gratitude, and respect for mothers, and to honor their mothers on this day and throughout the year.

IN WITNESS WHEREOF, I have hereunto set my hand this seventh day of May, in the year of our Lord two thousand four, and of the Independence of the United States of America the two hundred and twenty-eighth.

B

[FR Doc. 04-10912

Filed 5-11-04; 8:45 am]

Billing code 3195-01-P